DEPARTMENT OF ENERGY

Federal Energy Regulatory Commission

[Docket No. EC06-25-000]

Dispersed Generating Company, LLC; Notice of Filing

November 9, 2005.

Take notice that on November 4, 2005, Dispersed Generating Company, LLC (Dispersed Gen) pursuant to section 203 of the Federal Power Act, filed an application requesting authorization for the disposition of jurisdictional assets related to the proposed sale of two currently non-operational combustion turbine generating facilities to MMC Energy North America, LLC, or its wholly-owned and newly formed special purpose subsidiaries, MMC Chula Vista LLC. Dispersed Gen respectfully requests confidential treatment of some of the documents attached to the application.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 25, 2005.

Magalie R. Salas,
Secretary.

[FR Doc. E5-6338 Filed 11-16-05; 8:45 am]

BILLING CODE 6717-01-P